DEPARTMENT OF JUSTICE

[AAG/A Order No. 022-2007]

Privacy Act of 1974; System of Records

AGENCY: Criminal Division, Department of Justice.

ACTION: Revised system of records.

SUMMARY: Pursuant to the provisions of the Privacy Act of 1974, 5 U.S.C. 552a, notice is given that the Department of Justice (DOJ) proposes to revise the “Central Criminal Division Index File and Associated Records System, JUSTICE/CRM-001,” last published in full in the Federal Register on February 20, 1998 (63 FR 8659) and amended in part on March 29, 2001 (66 FR 17200).

DATES: In accordance with the requirements of 5 U.S.C. 552a(e)(4) and (11), the public is given a 30 day period in which to comment. The Office of Management and Budget (OMB), which has oversight responsibility under the Privacy Act, has 40 days in which to conclude its review of the system. Therefore, please submit any comments by September 17, 2007.

ADDRESSES: The public, OMB and the Congress are invited to submit any comments to Mary E. Cahill, Management and Planning Staff, Justice Management Division, Department of Justice, Washington, DC 20530 (Room 1400 National Place Building), facsimile number 202-307-1853.

FOR FURTHER INFORMATION CONTACT: Thomas McIntyre on 202-514-4412.

SUPPLEMENTARY INFORMATION: The system notice has been revised to update various sections, as necessary, and to reflect routine uses modified for consistency with other Department of Justice notices, or added based on new requirements for routine uses. In addition, it should be noted that a final rule establishing the National Security Division in the Department of Justice, published in the Federal Register on March 7, 2007, at 72 FR 10064, makes changes to certain portions of 28 CFR 0.55 through 0.64-5, outlining functions assigned to the Criminal Division, since some of the functions previously assigned to the Criminal Division moved to the new National Security Division effective March 7, 2007.

In accordance with 5 U.S.C. 552a (r), the Department has provided a report to OMB and the Congress.

Dated: July 24, 2007.
Lee J. Lofthus,
Assistant Attorney General for Administration.

DEPARTMENT OF JUSTICE/CRM-001

SYSTEM NAME:

Criminal Division Index File Systems and Associated Records.

SECURITY CLASSIFICATION:

The system itself is, in whole sensitive and in part, classified to protect national security/foreign policy material. Within the unclassified part, items or records may have Limited Official Use or national security/foreign policy classifications.

SYSTEM LOCATION:

U.S. Department of Justice, Criminal Division, Washington DC 20530-0001 or a National Archives and Records Administration (NARA) Regional Records Center.

CATEGORIES OF INDIVIDUALS COVERED BY THE SYSTEM:

Persons referred to in potential or actual cases and matters of concern to the Criminal Division and correspondence on subjects directed or referred to the Criminal Division.

CATEGORIES OF RECORDS IN THE SYSTEM:

The system consists of alphabetical indices bearing individual names and the associated records to which they relate, arranged either by subject matter or individual identifying number containing the general and particular records of all Criminal Division correspondence, cases, matters and memoranda, including but not limited to, investigative reports, correspondence to and from the Division, legal papers, evidence, and exhibits.

AUTHORITY FOR MAINTENANCE OF THE SYSTEM:

This system is established and maintained pursuant to 44 U.S.C. 3101 to implement all functions assigned to the Criminal Division in 28 CFR 0.55 through 0.64-5. Additional authority is derived from Treaties, Statutes, Executive Orders, Presidential Proclamations, and Attorney General Directives.

PURPOSE(S):

Records in this system are used to provide investigative and litigation information to management in the Division and the Department, courts, and other law enforcement agencies,

ROUTINE USES OF RECORDS MAINTAINED IN THE SYSTEM, INCLUDING CATEGORIES OF USERS AND THE PURPOSES OF SUCH USES:

A record maintained in this system of records may be disseminated as a routine use of such record as follows:

(1) To a Member of Congress or staff acting upon the Member's behalf when the Member or staff requests the information on behalf of, and at the request of, the individual who is the subject of the record.

(2) To contractors, grantees, experts, consultants, students, and others performing or working on a contract, service, grant, cooperative agreement, or other assignment for the Federal Government, when necessary to accomplish an agency function related to this system of records.

(3) Where a record, either alone or in conjunction with other information, indicates a violation or potential violation of law—criminal, civil, or regulatory in nature—the relevant records may be referred to the appropriate federal, state, local, territorial, tribal, or foreign law enforcement authority or other appropriate entity charged with the responsibility for investigating or prosecuting such violation or charged with enforcing or implementing such law.

(4) To appropriate officials and employees of a federal agency or entity that requires information relevant to a decision concerning the hiring, appointment, or retention of an employee; the issuance, renewal, suspension, or revocation of a security clearance; the execution of a security or suitability investigation; the letting of a contract; or the issuance of a grant or benefit.

(5) A record may be disclosed to designated officers and employees of state, local, territorial, or tribal law enforcement or detention agencies in connection with the hiring or continued employment of an employee or contractor, where the employee or contractor would occupy or occupies a position of public trust as a law enforcement officer or detention officer having direct contact with the public or with prisoners or detainees, to the extent that the information is relevant and necessary to the recipient agency's decision.

(6) In an appropriate proceeding before a court, grand jury, or administrative or adjudicative body when the Department of Justice determines that the records are arguably relevant to the proceeding; or in an appropriate proceeding before an administrative or adjudicative body when the adjudicator determines the records to be relevant to the proceeding.

(7) To an actual or potential party to litigation or administrative proceeding, or the party's authorized representative for the purpose of negotiation or discussion of such matters as settlement, plea bargaining, or in informal discovery proceedings.

(8) To the news media and the public, including disclosures pursuant to 28 CFR 50.2, unless it is determined that release of the specific information in the context of a particular case would constitute an unwarranted invasion of personal privacy.

(9) To federal, state, local, territorial, tribal, foreign (acting either directly or through an authorized representative of its government), or international licensing agencies or associations which require information concerning the suitability or eligibility of an individual for a license or permit.

(10) To the National Archives and Records Administration for purposes of records management inspections conducted under the authority of 44 U.S.C. 2904 and 2906.

(11) To a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

(12) To such recipients and under such circumstances and procedures as are mandated by federal statute or treaty.

(13) To complainants and/or victims to the extent necessary to provide such persons with information and explanations concerning the progress and/or results of the investigation or case arising from the matters of which they complained and/or of which they were a victim.

(14) To any criminal, civil, or regulatory law enforcement authority (whether federal, state, local, territorial, tribal, or foreign (acting either directly or through an authorized representative of its government)), where the information is relevant to the recipient entity's law enforcement responsibilities.

(15) To a governmental entity lawfully engaged in collecting law enforcement, law enforcement intelligence, or national security intelligence information for such purposes.

(16) To any person, organization, or governmental entity in order to notify them of a serious terrorist threat for the purpose of guarding against or responding to such a threat.

(17) To any person or entity, or their representative, if deemed by the Criminal Division to be necessary in order to elicit information or cooperation from the person or entity or their client for use by the Division in the performance of an authorized activity.

(18) A record that contains classified national security information and material may be disseminated to persons who are engaged in historical research projects, or who have previously occupied policy making positions to which they were appointed by the President, in accordance with the provisions codified in 28 CFR 17.46.

(19) A record relating to an actual or potential civil or criminal violation of title 17, United States Code, may be disseminated to a person injured by such violation to assist him in the institution or maintenance of a suit brought under such title.

(20) A record relating to a person held in custody pending or during arraignment, trial, sentence, or extradition proceedings, or after conviction or after extradition proceedings, may be disseminated to a federal, state, local, territorial, or foreign prison, probation, parole, or pardon authority, or to any other agency or individual concerned with the maintenance, transportation, or release of such a person.

(21) A record relating to a case or matter that has been referred by an agency for investigation, prosecution or enforcement, or that involves a case or matter within the jurisdiction of an agency, may be disseminated to such agency to notify the agency of the status of the case or matter or of any decision or determination that has been made, or to make such inquiries and reports as are necessary during the processing of the case or matter.

(22) In any health care-related civil or criminal case, investigation, or matter, information indicating patient harm, neglect, or abuse, or poor or inadequate quality of care, at a health care facility or by a health care provider may be disclosed as a routine use to any federal, state, local, tribal, foreign, joint, international or private entity that is responsible for regulating, licensing, registering or accrediting any health care provider or health care facility, or enforcing any health care-related laws or regulations. Further, information indicating an ongoing quality of care problem by a health care provider or at a health care facility may be disclosed to the appropriate health plan. Additionally, unless otherwise prohibited by applicable law, information indicating patient harm, neglect, abuse, or poor or inadequate quality of care may be disclosed to the affected patient or his representative or guardian at the discretion of and in the manner determined by the agency in possession of the information.

(23) To appropriate agencies, entities, and persons when (1) the Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

DISCLOSURE TO CONSUMER REPORTING AGENCIES:

None.

POLICIES AND PRACTICES FOR STORING, RETRIEVING, ACCESSING, RETAINING, AND DISPOSING OF RECORDS IN THE SYSTEM:

STORAGE:

Records are maintained in hard-copy, paper format and stored in electronic format via a Storage Area Network system architecture consisting of personal computers, client/servers, and tape libraries. Data is stored on hard disk, floppy diskettes, compact disks, magnetic tape and/or optical disk media. Records are stored in accordance with applicable executive orders, statutes, and agency implementing regulations.

The computer storage devices are located at several Justice Department buildings in Washington, DC. Paper files are stored in: Division offices with controlled access; a secure records unit with controlled access; locked file cabinets; other appropriate GSA approved security containers; or once closed, at a National Archives and Records Administration regional records center. Records that contain classified national security information are stored in accordance with applicable executive orders, statutes, and agency implementing regulations.

RETRIEVABILITY:

Records may be retrieved by reference to an individual's name or personal identifier.

SAFEGUARDS:

Information in this system is safeguarded in accordance with applicable laws, rules, and policies, including the Department's automated systems security and access policies. Records and technical equipment are maintained in a secured area with restricted access. The required use of password protection identification features and other system protection methods also restrict access. All physical access to the building(s) where this system of records is maintained is controlled and monitored by security personnel and accessed only by authorized Department personnel or by non-Department personnel properly authorized to assist in the conduct of an agency function related to these records.

RETENTION AND DISPOSAL:

Records in this system are retained and disposed of in accordance with records retention schedules approved by the National Archives and Records Administration (NARA) for the constituent system of records.

SYSTEM MANAGER(S) AND ADDRESS:

Assistant Attorney General, Criminal Division, U.S. Department of Justice, 950 Pennsylvania Avenue, NW., Washington DC 20530-0001.

NOTIFICATION PROCEDURE:

The major part of this system is exempted from this requirement under 5 U.S.C. 552a(j)(2), (k)(1) or (k)(2). Inquiries should be addressed to: Chief, Freedom of Information Act/Privacy Act Unit, Criminal Division, Department of Justice, 950 Pennsylvania Avenue, NW., Washington, DC 20530-0001.

RECORD ACCESS PROCEDURES:

Requests for access to a record in this system must be in writing and should be addressed to the Chief of the Freedom of Information Act/Privacy Act Unit noted above. The envelope and letter should be clearly marked “Privacy Act Request”. Requests must comply with the Department's regulations and be made in accordance with 28 CFR Part 16. They must include a general description of the records sought, the requester's full name, current address, and date and place of birth, the name of the case or matter involved, if known, and the name of the judicial district involved, if known, or any other identifying number or information which may be of assistance in locating the record. Social Security numbers are not used by the Criminal Division for identification purposes and should not be provided. The request must be signed and dated and either notarized or submitted under penalty of perjury. Some information may be exempt from access provisions as described in the section entitled “Exemptions Claimed for the System.” An individual who is the subject of a record in this system may access those records that are not exempt from disclosure. A determination whether a record may be accessed will be made at the time a request is received.

CONTESTING RECORD PROCEDURES:

Individuals desiring to contest or amend information maintained in the system should direct their request according to the Record Access Procedures listed above, stating clearly and concisely what information is being contested, the reasons for contesting it, and the proposed amendment to the information sought. Some information is not subject to amendment. Some information may be exempt from contesting record procedures as described in the section entitled “Exemptions Claimed for the System.” An individual who is the subject of a record in this system may seek amendment of those records that are not exempt. A determination whether a record may be amended will be made at the time a request is received.

RECORD SOURCE CATEGORIES:

Department officers and employees and other federal, state, local and foreign law enforcement and non-law enforcement agencies, corporations and businesses, private persons, witnesses, informants, and publicly available information, including commercial information resellers.

EXEMPTIONS CLAIMED FOR THE SYSTEM:

The Attorney General has exempted this system from subsections (c)(3), (c)(4), (d), (e)(1), (e)(2), (e)(3), (e)(4) (G), (H) and (I), (e)(5), (e)(8), (f) and (g) of the Privacy Act pursuant to the provisions of 5 U.S.C. 552a(j)(2); in addition, the system is exempt pursuant to the provisions of 5 U.S.C. 552a(k)(1) and (k)(2) from subsections (c)(3), (d), (e)(1), (e)(4)(G), (H), and (I), and (f). Rules have been promulgated in accordance with the requirements of 5 U.S.C. 553(b), (c) and (e) and have been published in the Federal Register. See 28 CFR 16.91.

[FR Doc. E7-15239 Filed 8-6-07; 8:45 am]

BILLING CODE 4410-14-P